DEPARTMENT OF LABOR

Occupational Safety and Health Administration

[Docket No. OSHA-2020-0010]

Maritime Advisory Committee on Occupational Safety and Health (MACOSH): Notice of Meeting

AGENCY: Occupational Safety and Health Administration (OSHA), Labor.

ACTION: Notice of MACOSH meeting.

SUMMARY: The Maritime Advisory Committee on Occupational Safety and Health (MACOSH) will meet on November 16 and 17, 2022.

DATES:

MACOSH Workgroup meetings: The MACOSH Shipyard and Longshoring Workgroups will meet from 9:30 a.m. to 4 p.m., ET, Wednesday, November 16, 2022.

MACOSH full Committee meeting: MACOSH will meet from 9:30 a.m. to 4 p.m., ET, Thursday, November 17, 2022.

ADDRESSES:

Submission of comments and requests to speak: Submit comments by November 10, 2022, identified by the docket number for this Federal Register notice (Docket No. OSHA-2022-0010), using the following method:

Electronically: Comments, including attachments, must be submitted electronically at www.regulations.gov, the Federal eRulemaking Portal. Follow the online instructions for submitting comments.

Instructions: All submissions must include the agency name and the OSHA docket number for this Federal Register notice (Docket No. OSHA-2020-0010). OSHA will place comments, including personal information, in the public docket, which may be available online. Therefore, OSHA cautions interested parties about submitting personal information such as Social Security numbers and birthdates.

Docket: To read or download documents in the public docket for this MACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

Participation in the MACOSH Workgroup and full committee meetings: Public attendance at the MACOSH Committee and Workgroup meetings will be virtual only. OSHA is not receiving public comments or requests to speak at the MACOSH Workgroup meetings.

FOR FURTHER INFORMATION CONTACT:

For press inquiries: Mr. Frank Meilinger, Director, OSHA Office of Communications, U.S. Department of Labor; telephone: (202) 693-1999; email: meilinger.francis2@dol.gov.

For general information about MACOSH: Ms. Amy Wangdahl, Director, Office of Maritime and Agriculture, Directorate of Standards and Guidance, OSHA, U.S. Department of Labor; telephone: (202) 693-2066; email: wangdahl.amy@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at www.regulations.gov. This notice, as well as news releases and other relevant information, are also available at OSHA's web page at www.osha.gov.

SUPPLEMENTARY INFORMATION:

I. Meeting Information

MACOSH Workgroup Meetings

The MACOSH Shipyard and Longshoring Workgroups will meet from 9:30 a.m. to 4 p.m., ET on November 16, 2022.

MACOSH Meeting

MACOSH will meet from 9:30 p.m. to 4 p.m., ET, Thursday, November 17, 2022. The meeting is open to the public.

The tentative agenda for the full Committee will include reports from the Shipyard and Longshoring workgroups, including discussions on the use of ventilation in shipyard employment, employee training, and the rescue of persons in the water. The Committee will also receive updates from the Office of the Assistant Secretary, the Directorate of Standards and Guidance, and the Directorate of Enforcement Programs.

Public attendance at the MACOSH Committee and Workgroup meetings will be virtual only. Meeting information will be posted in the Docket (Docket No. OSHA-2020-0010) and on the MACOSH web page, https://www.osha.gov/advisorycommittee/macosh, prior to the meeting.

Authority and Signature

James S. Frederick, Deputy Assistant Secretary of Labor for Occupational Safety and Health, authorized the preparation of this notice under the authority granted by 29 U.S.C. 655(b)(1) and 656(d), 5 U.S.C. App. 2, Secretary of Labor's Order No. 8-2020 (85 FR 58393), and 29 CFR part 1912.

Signed at Washington, DC, on October 11, 2022.
James S. Frederick,
Deputy Assistant Secretary for Occupational Safety and Health.

[FR Doc. 2022-22631 Filed 10-17-22; 8:45 am]

BILLING CODE 4510-26-P